DEPARTMENT OF TRANSPORTATION

Federal Aviation Administration

14 CFR Part 39

[Docket No. 2003-SW-40-AD; Amendment 39-13745; AD 2004-15-11]

RIN 2120-AA64

Airworthiness Directives; Eurocopter France Model EC155B and B1 Helicopters

AGENCY: Federal Aviation Administration, DOT.

ACTION: Final rule.

SUMMARY: This amendment adopts a new airworthiness directive (AD) for the specified Eurocopter France (ECF) model helicopters that requires cleaning the auxiliary system unit (ASU) board and modifying the wiring and wiring harness. If a temporary modification is done, the AD requires inserting a placard regarding on-ground operation of the emergency landing gear pump (pump). Also, this AD revises the Limitations section of the Rotorcraft Flight Manual (RFM) to limit the operation of the pump. Permanently modifying the wiring and wiring harness and removing the placard and limitations from the RFM is terminating action for the requirements of this AD. This amendment is prompted by the report of an emergency landing with the landing gear retracted. The landing gear failed to extend in normal and emergency extension modes following failure of the ASU board 10 Alpha 2. The actions specified by this AD are intended to prevent an electrical short circuit, failure of landing gear to extend, and a landing gear-up emergency landing.

DATES: Effective September 3, 2004.

The incorporation by reference of certain publications listed in the regulations is approved by the Director of the Federal Register as of September 3, 2004.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

FOR FURTHER INFORMATION CONTACT: Jorge Castillo, Aviation Safety Engineer, FAA, Rotorcraft Directorate, Regulations and Guidance Group, Fort Worth, Texas 76193-0111, telephone (817) 222-5127, fax (817) 222-5961.

SUPPLEMENTARY INFORMATION: A proposal to amend 14 CFR part 39 to include an AD for the specified model helicopters was published in the Federal Register on March 26, 2004 (69 FR 15744). That action proposed to require cleaning the ASU board and modifying the wiring and wiring harness. If a temporary modification is done, the action proposed to require inserting a placard regarding on-ground operation of the pump. Also, the action proposed to revise the Limitations section of the RFM to limit the operation of the pump. Also proposed was permanently modifying the wiring and wiring harness and then removing the placard and limitations from the RFM, which would be terminating action for the requirements of the AD.

The Direction Generale De L'Aviation Civile (DGAC), the airworthiness authority for France, notified the FAA that an unsafe condition may exist on Model EC 155B and B1 helicopters equipped with ASU board 10 Alpha 2, part number (P/N) SE07451. The DGAC advises that a landing gear did not extend in “NORMAL” and “EMERGENCY” extension modes due to a short-circuit between two components of the ASU board 10 Alpha 2.

ECF has issued Alert Telex No. 31A005R1, dated September 19, 2002, and Alert Service Bulletin (ASB) Nos. 31A005 and 31A008, both dated August 20, 2003. The Alert Telex and ASB No. 31A005 describe procedures for modifying the electrical circuit to preclude the risk of the landing gear not extending in the normal and emergency extension modes following failure of the ASU board 10 Alpha 2. ASB No. 31A008 describes procedures to enhance the reliability of the normal and emergency landing gear extension functions by separating their power supplies. The DGAC classified these service bulletins as mandatory and issued AD Nos. 2002-515(A) R1 and 2003-323(A), both dated September 3, 2003, to ensure the continued airworthiness of these helicopters in France.

Interested persons have been afforded an opportunity to participate in the making of this amendment. No comments were received on the proposal or the FAA's determination of the cost to the public. The FAA has determined that air safety and the public interest require the adoption of the rule as proposed.

The FAA estimates that this AD will affect 5 helicopters of U.S. registry, and modifying the electrical system will take about 11 work hours per helicopter at an average labor rate of $65 per work hour. Required parts will cost approximately $400 per helicopter. Based on these figures, we estimate the total cost impact of the AD on U.S. operators to be $5,575.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-15-11 Eurocopter France: Amendment 39-13745. Docket No. 2003-SW-40-AD.

Applicability: Model EC155B and B1 helicopters with auxiliary system unit (ASU) board 10 Alpha 2, part number (P/N) SE07451, installed, certificated in any category.

Compliance: Required as indicated, unless accomplished previously.

To prevent an electrical short circuit, failure of landing gear to extend, and an emergency landing, accomplish the following:

(a) Within 15 hours time-in-service (TIS), clean the auxiliary system unit (ASU) board 10 Alpha 2. Clean the ASU board by following the Accomplishment Instructions, paragraphs 2.B.1, and 2.B.2.a., of Eurocopter EC155 Alert Service Bulletin (ASB) No. 31A005, dated August 20, 2003 (ASB No. 31A005).

(b) Within 30 days, modify the wiring and wiring harness permanently by complying with paragraph (c) of this AD or temporarily by following the Accomplishment Instructions, paragraphs 2.B.1. and 2.B.2.a. through 2.B.2.d. of ASB No. 31A005. If temporarily modified:

(1) Install a self-adhesive placard of the size and in the location depicted in Figure 4 of ASB No. 31A005 with the following text in white letters on a red background: “CAUTION: ON GROUND OPERATION OF EMERGENCY LANDING GEAR PUMP IS TIME LIMITED—SEE OPERATING LIMITATIONS” and

(2) Revise the Operating Limitations by inserting the following text into the Rotorcraft Flight Manual (RFM):

“(i) Limit the emergency landing gear pump (pump) to 10 minutes of continuous operation.

(ii) When the pump is continuously operated from 1 to 5 minutes, allow it to cool for 15 minutes before further use.

(iii) When the pump is continuously operated from 5 to 10 minutes, allow it to cool for 30 minutes before further use.”

Note 1: Modifying the electric wiring covered by Alert Telex No. 31A005R1, dated September 19, 2002, led to inhibiting the protective thermal switch of the electric pump. This resulted in the need for a limitation placard. The purpose of the limitation placard is to remind operators about the on-ground operating limitations that apply to the electric pump.

(c) Within 10 months, modify the wiring and wiring harness by following the Accomplishment Instructions, paragraphs 2.A. and 2.B., of Eurocopter EC155 ASB No. 31A008, dated August 20, 2003 (ASB No. 31A008). If you made the temporary modifications described in paragraph (b) of this AD, remove the placard from the helicopter and the limitations inserted in the RFM as a result of paragraphs (b)(1) and (b)(2) of this AD.

(d) Permanently modifying the wiring and wiring harness following ASB No. 31A008 is terminating action for the requirements of this AD.

(e) To request a different method of compliance or a different compliance time for this AD, follow the procedures in 14 CFR 39.19. Contact the Safety Management Group, Rotorcraft Directorate, FAA, for information about previously approved alternative methods of compliance.

(f) Special flight permits will not be issued.

(g) Cleaning the auxiliary system unit and modifying the wiring and wiring harness shall be done by following Eurocopter EC155 Alert Service Bulletin No. 31A005 and Alert Service Bulletin No. 31A008, both dated August 20, 2003, as applicable. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

(h) This amendment becomes effective on September 3, 2004.

Note 2: The subject of this AD is addressed in Direction Generale De L'Aviation Civile (France) AD Nos. 2002-515(A) R1 and 2003-323(A), both dated September 3, 2003.

Issued in Fort Worth, Texas, on July 16, 2004.
David A. Downey,
Manager, Rotorcraft Directorate, Aircraft Certification Service.

[FR Doc. 04-17219 Filed 7-29-04; 8:45 am]

BILLING CODE 4910-13-P